NATIONAL COMMISSION ON LIBRARIES AND INFORMATION SCIENCE

Notice of Meeting

AGENCY: U.S. National Commission on Libraries and Information Science (NCLIS).

SUMMARY: The U.S. National Commission on Libraries and Information Science is holding an open business meeting to discuss Commission programs and administrative matters. Topics will include: (1) Digital Information; (2) Emergency Management, (3) Literacy; (4) Open Access and related topics.

Dates and Times: NCLIS Business Meeting—June 4, 9 a.m.-3 p.m.; June 5, 9 a.m.-12 p.m., 2007.

ADDRESSES: Room 642 (June 4-5), Madison Building, Library of Congress, 101 Independence Avenue, SE., Washington, DC 20540-1099.

Status: Open meeting.

SUPPLEMENTARY INFORMATION: The business meeting is open to the public, subject to space availability. To make special arrangements for physically challenged persons, contact Madeleine McCain, Director of Operations, 1800 M Street, NW., Suite 350 North Tower, Washington, DC 20036, e-mail mmccain@nclis.gov, fax 202-606-9203 or telephone 202-606-9200.

FOR FURTHER INFORMATION CONTACT: Madeleine McCain, Director of Operations, U.S. National Commission on Libraries and Information Science, 1800 M Street, NW., Suite 350 North Tower, Washington, DC 20036, e-mail mmccain@nclis.gov; fax 202-606-9203 or telephone 202-606 9200.

Dated: May 17, 2007.
Madeleine C. McCain,
NCLIS Director of Operations.

[FR Doc. E7-9811 Filed 5-21-07; 8:45 am]

BILLING CODE 7528-01-P